DEPARTMENT OF COMMERCE

International Trade Administration

[A-570-501, A-588-846]

Natural Bristle Paint Brushes and Brush Heads From the People's Republic of China and Certain Hot-Rolled Flat-Rolled Carbon-Quality Steel Products From Japan; Extension of Final Results of Expedited Sunset Reviews

AGENCY: Import Administration, International Trade Administration, Department of Commerce.

ACTION: Notice of extension of time limit for final results of expedited sunset reviews: natural bristle paint brushes and brush heads from the People's Republic of China and certain hot-rolled flat-rolled carbon-quality steel products from Japan.

SUMMARY: The Department of Commerce (“the Department”) is extending the time limit for its final results in the expedited sunset reviews of the antidumping duty orders on natural bristle paint brushes and brush heads from the People's Republic of China (“PRC”) and certain hot-rolled flat-rolled carbon-quality steel products (“hot-rolled steel”) from Japan. Based on adequate responses from the domestic interested parties and inadequate responses from respondent interested parties, the Department is conducting expedited sunset reviews to determine whether revocation of the antidumping duty orders would lead to the continuation or recurrence of dumping. As a result of this extension, the Department intends to issue final results of these sunset reviews on or about October 15, 2004.

EFFECTIVE DATE: September 7, 2004.

FOR FURTHER INFORMATION CONTACT: Hilary E. Sadler, Esq. (PRC) or Martha Douthit (Japan), Import Administration, International Trade Administration, U.S. Department of Commerce, 14th Street & Constitution Avenue, NW., Washington, DC 20230; telephone: (202) 482-4340 or 482-5050.

Extension of Final Results

In accordance with section 751(c)(5)(C)(ii) of the Tariff Act of 1930, as amended (“the Act”), the Department may treat sunset reviews as extraordinarily complicated if the issues are complex in order to extend the period of time under section 751(c)(5)(B) of the Act for making a sunset determination. As discussed below, the Department has determined that these reviews are extraordinarily complicated. On May 3, 2004, the Department published its notice of initiation of sunset reviews of the antidumping duty orders on natural bristle paint brushes and brush heads from the PRC and hot-rolled steel from Japan. See Initiation of Five-Year (Sunset) Reviews, 69 FR 24118 (May 3, 2004). The Department determined that it would conduct expedited sunset reviews of these antidumping duty orders based on responses from the domestic interested parties and no responses from the respondent interested parties to the notice of initiation. The Department's final results of these reviews were scheduled for August 31, 2004; however, the Department needs additional time for its analysis to examine certain complex issues. Specifically in the natural bristle paint brushes and brush heads case, the Department is analyzing issues surrounding import volumes. Concerning hot-rolled steel, the Department needs additional time to analyze the issues raised by the parties. Therefore, Department needs additional time for its analysis in making its final determinations.

Because of the complex issues in these proceedings, the Department will extend the deadline for issuance of the final results. Thus, the Department intends to issue the final results on or about October 15, 2004, in accordance with sections 751(c)(5)(B) and (C)(ii) of the Act.

Dated: August 31, 2004.
James J. Jochum,
Assistant Secretary for Import Administration.

[FR Doc. E4-2083 Filed 9-3-04; 8:45 am]

BILLING CODE 3510-DS-P